DEPARTMENT OF THE INTERIOR

National Park Service, Interior.

Notice of Intent to Repatriate Cultural Items: Thomas Burke Memorial Washington State Museum, University of Washington, Seattle, WA

AGENCY: National Park Service, Interior.

ACTION: Notice.

Notice is hereby given in accordance with the Native American Graves Protection and Repatriation Act (NAGPRA), 25 U.S.C. 3005, of the intent to repatriate cultural items in the possession of the Thomas Burke Memorial Washington State Museum (Burke Museum), University of Washington, Seattle, WA, that meet the definition of “unassociated funerary objects” under 25 U.S.C. 3001.

This notice is published as part of the National Park Service's administrative responsibilities under NAGPRA, 25 U.S.C. 3003(d)(3). The determinations in this notice are the sold responsibility of the museum, institution, or Federal agency that has control of the cultural items. The National Park Service is not responsible for the determinations in this notice.

The 12 cultural items are 7 beaded necklaces (beads include glass trade beads, shell beads, and copper beads), 1 bracelet, 3 sets of pipe fragments, and 1 piece of twine.

At an unknown date, the 12 cultural items were removed from a small island just upriver from Blalock Island in the lower Columbia River, Benton County, WA, by Mr. John Tomaske, an archaeology graduate student of the University of Washington. In 1960, the cultural items were donated to the University of Washington Department of Anthropology, and subsequently transferred to the Burke Museum and accessioned in 1973 (Burke Accn. #1973-8). Accession information indicated the presence of burials at the site. According to Mr. Tomaske, the burials had previously been disturbed and exhibited evidence of cremation. The human remains are not in the possession of the Burke Museum.

The small island just upriver from Blalock Island described in museum records could be Cook's Island, which was formerly recorded as containing cremation burials. Archaeological evidence for Cook's Island supports the presence of cremation burials. Cremation and burial on islands in the Columbia River were customary practices of the Umatilla. It was also the practice of the Umatilla that individuals were buried with many of their personal belongings. The area surrounding Blalock Island was heavily utilized by the Umatilla, including ama'amapa, which served as a habitation area, burial site, and stronghold from enemies. On Blalock Island, and along the Washington side of the Columbia River, the Umatilla had a permanent camp, Yep-po-luc-sha (or Yep-po-kuc-sha), as well as a fishing area.

Burial practices and funerary objects described are consistent with historic practices of the present-day Confederated Tribes of the Umatilla Reservation, Oregon. The area surrounding Blalock Island is within the aboriginal territory of the Confederated Tribes of the Umatilla Reservation, Oregon and the land claims boundaries of the Indian Claims Commission decision of 1960.

Officials of the Burke Museum have determined that, pursuant to 25 U.S.C. 3001(3)(B), the 12 cultural items described above are reasonably believed to have been placed with or near individual human remains at the time of death or later as part of the death rite or ceremony and are believed, by a preponderance of the evidence, to have been removed from a specific burial site of a Native American individual. Officials of the Burke Museum also have determined that, pursuant to 25 U.S.C. 3001(2), there is a relationship of shared group identity that can be reasonably traced between funerary objects and the Confederated Tribes of the Umatilla Reservation, Oregon.

Representatives of any other Indian tribe that believes itself to be culturally affiliated with the unassociated funerary objects should contact Dr. Peter Lape, Burke Museum, University of Washington, Box 353010, Seattle, WA 98195-3010, telephone (206) 685-2282, before January 27, 2006. Repatriation of the unassociated funerary objects to the Confederated Tribes of the Umatilla Reservation, Oregon may proceed after that date if no additional claimants come forward.

The Burke Museum is responsible for notifying the Confederated Tribes of the Umatilla Reservation, Oregon that this notice has been published.

Dated: December 6, 2005.
Sherry Hutt,
Manager, National NAGPRA Program.

[FR Doc. 05-24509 Filed 12-27-05; 8:45 am]

BILLING CODE 4312-50-M